DEPARTMENT OF THE INTERIOR

Bureau of Indian Affairs

[167 A2100DD/AAKC001030/A0A501010.999900]

Notice of Intent To Prepare an Environmental Impact Statement for the Prairie Band Potawatomi Nation's Proposed Trust Acquisition and Gaming Facility Project, DeKalb County, Illinois

AGENCY: Bureau of Indian Affairs, Interior.

ACTION: Notice.

SUMMARY: This notice advises the public that the Bureau of Indian Affairs (BIA) as lead agency, and the Prairie Band Potawatomi Nation (Nation) as cooperating agency, intend to gather information necessary to prepare an Environmental Impact Statement (EIS) in connection with the Nation's application for the proposed acquisition in trust by the United States of approximately 129 acres for construction and operation of a gaming facility in DeKalb County, Illinois. This notice also opens public scoping to identify potential issues, concerns and alternatives to be considered in the EIS.

DATES: The date and location of the public meeting will be announced at least 15 days in advance through a notice in the Daily Chronicle and the Midweek and on the following Web site: www.prairiebandeis.com. Written comments on the DEIS must arrive within 45 days after EPA publishes its Notice of Availability.

ADDRESSES: You may mail or hand-deliver written comments to Diane Rosen, Regional Director, Bureau of Indian Affairs, Midwest Region, Norman Pointe II Building, 5600 W. American Blvd., Suite 500, Bloomington, Minnesota 55437. Please include your name, return address, and “NOI Comments, Prairie Band Project” on the first page of your written comments.

FOR FURTHER INFORMATION CONTACT: Scott Doig, Acting Regional Environmental Scientist, at the address above, or at telephone (612) 725-4514, email scott.doig@bia.gov.

SUPPLEMENTARY INFORMATION: The Nation submitted a request to the Department of the Interior for the placement of approximately 129 acres of fee land in trust by the United States upon which the Nation would construct a class II gaming facility. The property is located in DeKalb County just southeast of the town of Shabbona, IL. The gaming facility would consist of a class II gaming area, restaurants and lounges, a multi-purpose room that could be used for entertainment, meetings, and other purposes, and surface parking for cars and buses. The property is comprised of two parcels: an approximately 128-acre parcel currently used for farming (Parcel ID Index 13-23-200-001), on which the gaming facility would be built, and a 30,020 square foot parcel on which a house sits (Parcel ID Index 13-23-128-002). The purpose of the proposed action is to acquire land in trust that was historically reserved for Chief Shab-eh-nay and his Band of Potawatomis by treaty, and to facilitate economic development so that the Tribal government can better provide housing, health care, education, cultural programs, and other services to its members.

The proposed action encompasses the various Federal approvals which may be required to implement the Tribe's proposed economic development project, including approval of the Nation's fee-to-trust application. The EIS will identify and evaluate issues related to these approvals, and will also evaluate a range of reasonable alternatives, including a no action alternative. Other possible alternatives currently under consideration are a reduced-intensity gaming facility alternative, an alternate-use (non-gaming) alternative and an off-site alternative. The range of issues and alternatives may be revised based on comments received during the scoping process.

Areas of environmental concern preliminarily identified for analysis in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects. Additional information, including a map of the project site, is available by contacting the person listed in the FOR FURTHER INFORMATION section of this notice.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Dated: December 21, 2015.
Kevin K. Washburn,
Assistant Secretary—Indian Affairs.

[FR Doc. 2015-33247 Filed 1-5-16; 8:45 am]

BILLING CODE P